DEPARTMENT OF DEFENSE

Department of the Air Force

Proposed Collection; Comment Request

AGENCY: Department of the Air Force, DoD.

ACTION: Notice.

In compliance with section 3506(c)(2)(A) of the Paperwork Reduction Act of 1995, the Air Force Recruiting Service announces the proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms or information technology.

DATES: Consideration will be given to all comments received on or before October 26, 2001.

ADDRESSES: Written comments and recommendations on the proposed information collection should be sent to Headquarters Air Force Recruiting Service, AFRS/RSIDR, 550 D Street West Suite 1, Randolph AFB, TX 78150-4526.

FOR FURTHER INFORMATION CONTACT: To request more information on this proposed information collection or to obtain a copy of the proposal and associated collection instruments, please write to the above address, or call Headquarters Air Force Recruiting Service Information Systems Division Requirements Section at 210-652-5255.

Title: Air Force Recruiting Information Support System (AFRISS).

Needs and Uses: Air Force Recruiting Service requires the collection of specific information on prospective Air Force enlistees (prospective Air Force enlistees include Active, Guard, and Reserve) entering the Air Force. The information is used to create the initial personnel record, prescreen and qualify enlistees fit for service and ultimately induction. The information is also collected to process security clearances and to record metrics to be used for demographics/market research and system performance.

Affected Public: Individuals 16 years and older interested in pursuing a career in the Air Force be it Active, Guard, and Reserve in the U.S. and abroad.

Annual Burden Hours: No burden is placed on the public. The continued contact is based on prospective interest in becoming an Air Force member.

Number of Respondents: Unlimited.

Responses per Respondent: Varies.

Average Burden per Response: Varies.

Frequency: As needed.

SUPPLEMENTARY INFORMATION:

Summary of Information Collection

To furnish Active, Guard, and Reserve field recruiters an automated tool to create prospective Air Force enlistee application files for all recruiting accessions in officer, enlisted, and health professions. AFRISS provides comprehensive integration, interface, and standardization of all programs that manage personnel resources in support of Air Force recruiting. The system extends automated capabilities out to the individual recruiter, flight, squadron, and groups. It provides an automated interface to the Military Entrance Processing Center Station (MEPS) where applicants undergo physical, testing, verification interviews, and tentative job reservation. It will provide an automated interface to the Modernized Military Personnel System (MilMod) where only pertinent and required applicant information is placed in a permanent military system of record. It also provides reporting capabilities at all levels of Air Force Recruiting management to make informed decisions on recruiting business rules and practices to increase the number of accessions.

Janet A. Long,
Air Force Federal Register Liaison Officer.

[FR Doc. 01-21536 Filed 8-24-01; 8:45 am]

BILLING CODE 5001-05-U